DEPARTMENT OF THE TREASURY

Internal Revenue Service

26 CFR Part 1

[REG-129771-04]

RIN 1545-BD49

Guidance Under Section 951 for Determining Pro Rata Share; Correction

AGENCY: Internal Revenue Service (IRS), Treasury.

ACTION: Correction to notice of proposed rulemaking.

SUMMARY: This document contains corrections to notice of proposed rulemaking that were published in the Federal Register on August 6, 2004 (69 FR 47822), providing guidance for determining a United States shareholder's pro rata share of a controlled foreign corporation's (CFC's) subpart F income, previously excluded subpart F income withdrawn from investment in less developed countries, previously excluded subpart F income withdrawn from foreign base company shipping operations, and amounts determined under section.

FOR FURTHER INFORMATION CONTACT: Jonathan A. Sambur at (202) 622-3840 (not a toll-free number).

SUPPLEMENTARY INFORMATION:

Background

The proposed regulations that are the subject of these corrections are under section 951 (a) of the Internal Revenue Code.

Correction of Publication

Accordingly, the publication of the notice of proposed rulemaking (REG-129771-04), which was the subject of FR Doc. 04-17907, is corrected as follows:

1. On page 47823, column 1, in the preamble under the caption ADDRESSES, remove the last sentence.

§ 1.951-1 [Corrected]

2. On page 47826, column 2, § 1.951-1, paragraph (e)(5)(iii), line 11, the language “distribution of earnings or profits that” is corrected to read “distribution of earnings and profits that”.

Cynthia Grigsby,
Acting Chief, Publications and Regulations Branch, Legal Processing Division, Associate Chief Counsel (Procedures and Administration).

[FR Doc. 04-22137 Filed 9-30-04; 8:45 am]

BILLING CODE 4830-01-P